SMALL BUSINESS ADMINISTRATION

National Advisory Board, Small Business Development Centers; Public Meeting

The U.S. Small Business Administration, National Advisory Board of the Office of Small Business Development Centers, will be hosting a public meeting via conference call to discuss such matters that may be presented by members, the staff of the U.S. Small Business Administration, or interested others. The conference will take place on Thursday, August 25, 2005 at 11 a.m. eastern standard time.

Anyone wishing to participate or make an oral presentation to the Board must contact Erika Fischer, Senior Program Analyst, U.S. Small Business Administration, Office of Small Business Development Centers, 409 3rd Street, SW., Washington, DC 20416, telephone (202) 205-7045 or fax (202) 481-0681.

Matthew K. Becker,
Committee Management Officer.

[FR Doc. 05-16420 Filed 8-18-05; 8:45 am]

BILLING CODE 8025-01-P